DEPARTMENT OF JUSTICE

Antitrust Division

Notice Pursuant to the National Cooperative Research and Production Act of 1993—TM Forum

Notice is hereby given that, on February 12, 2025, pursuant to section 6(a) of the National Cooperative Research and Production Act of 1993, 15 U.S.C. 4301 et seq. (“the Act”), TM Forum, a New Jersey Non-Profit Corporation (“the Forum”), filed written notifications simultaneously with the Attorney General and the Federal Trade Commission disclosing changes in its membership. The notifications were filed for the purpose of extending the Act's provisions limiting the recovery of antitrust plaintiffs to actual damages under specified circumstances.

Specifically, Yettel Hungary, Torokbalint, HUNGARY; HITSS SOLUTIONS, S.A. DE C.V., Col. Miguel Hidalgo, MEXICO; Consumer Cellular, Inc., Scottsdale, AZ; Zinkworks, Athlone, REPUBLIC OF IRELAND; Beijing BOCO Inter-Telecom Technology Co., Ltd., Beijing, PEOPLE'S REPUBLIC OF CHINA; Shanghai Itest Technology Co., Ltd., Shanghai, PEOPLE'S REPUBLIC OF CHINA; Innovaflo, Toronto, CANADA; Axiros GmbH, Höhenkirchen-Siegertsbrunn, GERMANY; Mindware Systems Kft., Szentendre, HUNGARY; Entronica Company Limited, Phaya Thai, KINGDOM OF THAILAND; Forty Two Data Services Limited, Yokne'am Illit, STATE OF ISRAEL; holos supply GmbH, Weiterstadt, GERMANY; Codaxy d.o.o., Banja Luka, BOSNIA AND HERZEGOVINA; Tnbs, Paris, FRANCE; CROSS Network Intelligence s.r.o., Prague 1, CZECH REPUBLIC; Metro Fibernet, LLC, Evansville, IN; Iridium Satellite LLC, Tempe, AZ; DigitalRoute AB, Stockholm, KINGDOM OF SWEDEN; Shabodi Corp, Mississauga, CANADA; MLNetworks, Middleton, DE; Resolve Systems, Campbell, CA; PlektonLabs, Austin, TX; Sutherland Global Services, New York, NY, have been added as parties to this venture.

Also, 2Degrees Mobile, Ltd., Auckland, NEW ZEALAND; Atricom Systems, Ltd., Hod Hasharon, STATE OF ISRAEL; Bauhaus-Universität Weimar, Weimar, GERMANY; Cogeco Communications Inc., Montreal, CANADA; Czech Technical University in Prague, Prague, CZECH REPUBLIC; Gigaclear, Ltd., Abingdon, UNITED KINGDOM; HEWLETT PACKARD CUSTOMER DELIVERY SERVICES SL, Madrid, KINGDOM OF SPAIN; Hutchison 3G UNITED KINGDOM, Maidenhead, UNITED KINGDOM; Hyperoptic, Ltd., London, UNITED KINGDOM; INOSS, Inc., Spicewood, TX; LTC International Inc., Richardson, TX; Mentopolis Consulting & Software Concepts, Niedernberg, GERMANY; Mobileum Inc., Cupertino, CA; REDERESIDUO, Sao Paulo, FEDERATIVE REPUBLIC OF BRAZIL; Revalora Beta Consulting, S.L., Madrid, KINGDOM OF SPAIN; R Software, Inc., DBA Rapid, San Francisco, CA; Sage Management, LLC, Charleston, SC; Sasin Graduate Institute of Business Administration, Bangkok, KINGDOM OF THAILAND; Surfly, Amsterdam, KINGDOM OF THE NETHERLANDS; TDS Telecommunications LLC, Madison, WI; University Belgrade, Transport and Traffic Engineering Faculty, Belgrade, REPUBLIC OF SERBIA; University of Cagliari, Department of Electrical & Electronic Engineering (DIEE), Cagliari, ITALY; University of Florida, Warrington College of Business Administration, Public Utility Research Center, Gainesville, FL; Verso Altima d.o.o., Zagreb, REPUBLIC OF CROATIA; Waylay, Gent, KINGDOM OF BELGIUM; ZIM Connections, Ltd., London, UNITED KINGDOM, have withdrawn as parties to this venture.

In addition, the following members have changed their names: NTS Retail KG to NTS Retail GmbH & Co KG, Leonding, REPUBLIC OF AUSTRIA; SingTel Optus to Singtel Optus Pty Limited, North Sydney, AUSTRALIA.

No other changes have been made to either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on October 16, 2024. A notice was published in the Federal Register pursuant to section 6(b) of the Act on January 24, 2025 (90 FR 8143).

Suzanne Morris,
Deputy Director Civil Enforcement Operations, Antitrust Division.

[FR Doc. 2025-03228 Filed 2-27-25; 8:45 am]

BILLING CODE 4410-11-P